ENVIRONMENTAL PROTECTION AGENCY

[FRL-8548-2]

National Advisory Council for Environmental Policy and Technology

AGENCY: Environmental Protection Agency (EPA).

ACTION: Notice of teleconference.

SUMMARY: Under the Federal Advisory Committee Act, Public Law 92463, EPA gives notice of a public teleconference of the National Advisory Council for Environmental Policy and Technology (NACEPT). NACEPT provides advice to the EPA Administrator on a broad range of environmental policy, technology, and management issues. The Council is a panel of individuals who represent diverse interests from academia, industry, non-governmental organizations, and local, state, and Tribal governments. The purpose of this teleconference is to discuss and approve the NACEPT Environmental Technology Subcommittee's draft recommendations on actions that EPA and the investment community could take and partnerships they could create to achieve the goal of greater private sector investment in the commercialization of environmental technologies over the long-term. A copy of the agenda for the meeting will be posted at http://www.epa.gov/ocem/nacept/cal-nacept.htm.

DATES: NACEPT will hold a public teleconference on Monday, April 14, 2008 from 2:30 p.m.—4:30 p.m. EDT.

ADDRESSES: The meeting will be held in the U.S. EPA Office of Cooperative Environmental Management at 1201 Constitution Ave, NW., EPA East Building, Room 1132, Washington, DC 20004.

FOR FURTHER INFORMATION CONTACT: Sonia Altieri, Designated Federal Officer, altieri.sonia@epa.gov, (202) 564-0243, U.S. EPA, Office of Cooperative Environmental Management (1601M), 1200 Pennsylvania Avenue NW., Washington, DC 20460.

SUPPLEMENTARY INFORMATION: Requests to make oral comments or to provide written comments to the Council should be sent to Sonia Altieri, Designated Federal Officer, at the contact information above by Wednesday, April 9, 2008. The public is welcome to attend all portions of the meeting, but seating is limited and is allocated on a first-come, first-serve basis. Members of the public wishing to gain access to the conference room on the day of the meeting must contact Sonia Altieri at (202) 564-0243 or altieri.sonia@epa.gov by April 9, 2008.

Meeting Access: For information on access or services for individuals with disabilities, please contact Sonia Altieri at 202-564-0243 or altieri.sonia@epa.gov. To request accommodation of a disability, please contact Sonia Altieri, preferably at least 10 days prior to the meeting, to give EPA as much time as possible to process your request.

Dated: March 17, 2008.
Sonia Altieri,
Designated Federal Officer.

[FR Doc. E8-6267 Filed 3-26-08; 8:45 am]

BILLING CODE 6560-50-P